DEPARTMENT OF ENERGY

Federal Energy Regulatory Commission

[Docket No. RP00-428-002]

Great Lakes Gas Transmission Limited Partnership; Notice of Compliance Filing

March 14, 2001.

Take notice that on March 9, 2001, Great Lakes Gas Transmission Limited Partnership (Great Lakes) tendered for filing as part of its FERC Gas Tariff, Second Revised Volume No. 1, the following tariff sheets, to be effective November 1, 2000:

Sixth Revised Sheet No. 4

Fourth Revised Sheet No. 5

First Revised Sheet No. 5A

Great Lakes states that these tariff sheets are being filed to comply with Sections 154.203 and 154.102(e)(5) of the Commission's regulations, and to clearly reflect the Rate Settlement approved by the Commission in Docket Nos. RP00-428-000 and RP91-143-050. Great Lakes Gas Transmission Limited Partnership, 93 FERC 61,076 (October 26, 2000); rehearing denied, 94 FERC 61,113 (February 8, 2001). The Settlement provides for a five year base rate moratorium, until November 1, 2005, wherein Great Lakes and its Shippers, with the exception of Rochester Gas and Electric Corporation, waive their rights to change or challenge Great Lakes' base tariff rates under Sections 4 and 5 of the NGA.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-6799 Filed 3-19-01; 8:45 am]

BILLING CODE 6717-01-M